DEPARTMENT OF TRANSPORTATION

Federal Aviation Administration

14 CFR Part 39

[Docket No. 2000-CE-54-AD]

RIN 2120-AA64

Airworthiness Directives; British Aerospace HP137 Mk1, Jetstream Series 200, and Jetstream Models 3101 and 3201 Airplanes

AGENCY: Federal Aviation Administration, DOT.

ACTION: Notice of proposed rulemaking (NPRM).

SUMMARY: This document proposes to adopt a new airworthiness directive (AD) that would apply to all British Aerospace HP137 Mk1, Jetstream series 200, and Jetstream Models 3101 and 3201 airplanes that are equipped with certain main landing gear (MLG) radius rods. The proposed AD would require inspection of the MLG radius rods for cracks with replacement of any cracked rod. The proposed AD is the result of mandatory continuing airworthiness information (MCAI) issued by the airworthiness authority for the United Kingdom. The actions specified by the proposed AD are intended to detect and correct cracks in the MLG radius rods. Such cracks could result in MLG failure during takeoff, landing, or taxi operations, with consequent loss of airplane control.

DATES: The Federal Aviation Administration (FAA) must receive any comments on this proposed rule on or before December 15, 2000.

ADDRESSES: Submit comments in triplicate to FAA, Central Region, Office of the Regional Counsel, Attention: Rules Docket No. 2000-CE-54-AD, 901 Locust, Room 506, Kansas City, Missouri 64106. Comments may be inspected at this location between 8 a.m. and 4 p.m., Monday through Friday, holidays excepted.

Service information that applies to the proposed AD may be obtained from British Aerospace Regional Aircraft, Prestwick International Airport, Ayrshire, KA9 2RW, Scotland; telephone: (01292) 479888; facsimile: (01292) 479703. This information also may be examined at the Rules Docket at the address above.

FOR FURTHER INFORMATION CONTACT: Mr. S.M. Nagarajan, Aerospace Engineer, FAA, Small Airplane Directorate, 901 Locust, Room 301, Kansas City, Missouri 64106; telephone: (816) 329-4145; facsimile: (816) 329-4090.

SUPPLEMENTARY INFORMATION:

Comments Invited

How Do I Comment on the Proposed AD?

The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are There Any Specific Portions of the Proposed AD I Should Pay Attention To?

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How Can I Be Sure FAA Receives My Comment?

If you want us to acknowledge the receipt of your comments, you must include a self-addressed, stamped postcard. On the postcard, write “Comments to Docket No. 2000-CE-54-AD.” We will date stamp and mail the postcard back to you.

Discussion

What Events Have Caused This Proposed AD?

The Civil Aviation Authority (CAA), which is the airworthiness authority for the United Kingdom, recently notified the FAA that an unsafe condition may exist on certain British Aerospace HP137 Mk1, Jetstream series 200, and Jetstream Models 3101 and 3201 airplanes. The CAA reports an incident where a MLG radius rod cylinder cracked, which allowed the gland nut to separate from the housing and caused the MLG unit to move 30 degrees outboard.

The cause has been traced to a quality control problem with the MLG manufacturer, AAPH Ltd. In particular, the cause is inadequate countersinking of a drilled hole for the attachment of a flexible hose on a batch of MLG radius rods, part numbers 1847 and 1862, all suffixes.

What Are the Consequences If the Condition Is Not Corrected?

Cracks in the MLG radius rods, if not detected and corrected, could result in MLG failure during takeoff, landing, or taxi operations, with consequent loss of airplane control.

Is There Service Information That Applies to This Subject?

The following service bulletins apply to this subject:

—British Aerospace Mandatory Service Bulletin 32-JA 991140, Issued: April 14, 2000: This service bulletin specifes inspection of the APPH Ltd. part numbers 1847 and 1862 MLG radius rods for cracks with replacement of cracked rods;

—APPH Ltd. Service Bulletin No. 1847-32-07, dated February 2000: This service bulletin includes procedures for inspecting the APPH Ltd. part number 1847 MLG radius rods for cracks; and

—APPH Ltd. Service Bulletin No. 1862-32-07, dated February 2000: This service bulletin includes procedures for inspecting the part number APPH Ltd. part number 1862 MLG radius rods for cracks.

What Action Did the CAA Take?

The CAA classified these service bulletins as mandatory and issued British AD Number 002-04-2000, not dated, in order to assure the continued airworthiness of these airplanes in the United Kingdom.

Was This in Accordance With the Bilateral Airworthiness Agreement?

These airplane models are manufactured in the United Kingdom and are type certificated for operation in the United States under the provisions of section 21.29 of the Federal Aviation Regulations (14 CFR 21.29) and the applicable bilateral airworthiness agreement.

Pursuant to this bilateral airworthiness agreement, the CAA has kept FAA informed of the situation described above.

The FAA's Determination and an Explanation of the Provisions of the Proposed AD

What Has FAA Decided?

The FAA has examined the findings of the CAA; reviewed all available information, including the service information referenced above; and determined that:

—The unsafe condition referenced in this document exists or could develop on other British Aerospace HP137 Mk1, Jetstream series 200, and Jetstream Models 3101 and 3201 airplanes of the same type design that are equipped with the referenced MLG radius rods;

—The actions specified in the previously-referenced service information should be accomplished on the affected airplanes; and

—AD action should be taken in order to correct this unsafe condition.

What Would the Proposed AD Require?

This proposed AD would require inspection of the MLG radius rods for cracks, with replacement of any cracked rod.

Are There Differences Between the Proposed AD and the Service Information?

British Aerospace Mandatory Service Bulletin 32-JA 991140, Issued: April 14, 2000; APPH Ltd. Service Bulletin 1847-32-07, dated February 2000; and APPH Ltd. Service Bulletin 1862-32-07, dated February 2000, specify reporting the results of the inspections to British Aerospace Regional Aircraft. This NPRM does not specify this action. The FAA recommends that each owner/operator submit this information and we are including a note in the proposed AD to communicate this. British Aerospace and the British CAA will use this information to determine whether further action is necessary.

The FAA will evaluate the information from the British CAA and may initiate further rulemaking action.

Cost Impact

How Many Airplanes Would the Proposed AD Impact?

We estimate that the proposed AD would affect 264 airplanes in the U.S. registry.

What Would Be the Cost Impact of the Proposed AD on Owners/Operators of the Affected Airplanes?

We estimate the following costs to accomplish the proposed inspection:

Labor cost | Parts cost | Total cost per airplane | Total cost on U.S. airplane operators
10 workhours × $60 per hour = $600 | No parts required for inspection | $600 | $158,400

We estimate the following costs to accomplish any necessary MLG radius rod replacements that would be required based on the results of the proposed inspection. We have no way of determining the number of airplanes that may need MLG radius rod replacement:

Labor cost | Parts cost | Total cost per airplane
2 workhours × $60 per hour = $120 to accomplish each MLG radius rod replacement. | $7,315 per MLG radius rod | $7,435 per airplane where the MLG radius rod needs replaced.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

British Aerospace: Docket No. 2000-CE-54-AD

(a) What airplanes are affected by this AD? This AD affects HP137 Mk1, Jetstream Series 200, and Jetstream Models 3101 and 3201 airplanes, all serial numbers, that are:

(1) certificated in any category; and

(2) equipped with a main landing gear (MLG) radius rod, APPH Ltd. part number 1847 or 1862, all suffixes.

(b) Who must comply with this AD? Anyone who wishes to operate any of the above airplanes must comply with this AD.

(c) What problem does this AD address? The actions specified by this AD are intended to detect and correct cracks in the MLG radius rods. Such cracks could result in MLG failure during takeoff, landing, or taxi operations, with consequent loss of airplane control.

(d) What actions must I accomplish to address this problem? To address this problem, you must accomplish the following:

Action | Compliance time | Procedures
(1) Check the maintenance records to determine whether one of the affected MLG radius rods is installed | Within the next 200 hours time-in-service (TIS) after the effective date of this AD, unless already accomplished | As specified in British Aerospace Mandatory Service Bulletin 32-JA 991140, Issued: April 14, 2000.
(2) If, by checking the maintenance records, you can positively show that one of the affected MLG radius rods is not installed, then the inspection and possible replacement requirements of this AD do not apply. Make an entry into the aircraft records that shows compliance with this portion of the AD, in accordance with section 43.9 of the Federal Aviation Regulations (14 CFR 43.9) | Prior to further flight after checking the maintenance records | Not Applicable.
(3) If, by checking the maintenance records, you find that one of the affected MLG radius rods is installed or you cannot positively show that one of the affected MLG radius rods is not installed, inspect any affected MLG radius rod for cracks | Prior to further flight after checking the maintenance records, unless already accomplished | In accordance with the procedures in APPH Ltd. Service Bulletin 1847-32-07, dated February 2000; or APPH Ltd. Service Bulletin 1862-32-07, dated February 2000, as applicable.
(4) If any MLG radius rod is found cracked, replace it with FAA-approved MLG radius rod that is crack free | Prior to further flight after the inspection | In accordance with the procedures in the applicable maintenance manual.
(5) Do not install, on any affected airplane, a part number 1847 or 1862 MLG radius rod (all suffixes), unless it has been inspected and is found to be free of cracks | As of the effective date of this AD | Not Applicable.
(6) The owner/operator holding at least a private pilot certificate as authorized by section 43.7 of the Federal Aviation Regulations (14 CFR 43.7) may accomplish the actions required in paragraphs (d)(1) and (d)(2) of this AD | Not applicable | Not Applicable.

Note 1: British Aerospace Mandatory Service Bulletin 32-JA 991140, Issued: April 14, 2000; APPH Ltd. Service Bulletin 1847-32-07, dated February 2000; and APPH Ltd. Service Bulletin 1862-32-07, dated February 2000, specify reporting the results of the inspections to British Aerospace Regional Aircraft. The FAA highly recommends that each owner/operator submit this information. British Aerospace and the British Civil Airworthiness Authority (CAA) will use this information to determine whether further action is necessary. The FAA will evaluate the information from the British CAA and may initiate further rulemaking action.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. S.M. Nagarajan, Aerospace Engineer, FAA, Small Airplane Directorate, 901 Locust, Room 301, Kansas City, Missouri 64106; telephone: (816) 329-4145; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from British Aerospace Regional Aircraft, Prestwick International Airport, Ayrshire, KA9 2RW, Scotland. You may examine these documents at FAA, Central Region, Office of the Regional Counsel, 901 Locust, Room 506, Kansas City, Missouri 64106.

Note 3: The subject of this AD is addressed in British AD 002-04-2000, not dated.

Issued in Kansas City, Missouri, on October 27, 2000.
James E. Jackson,
Acting Manager, Small Airplane Directorate, Aircraft Certification Service.

[FR Doc. 00-28095 Filed 11-1-00; 8:45 am]

BILLING CODE 4910-13-U